DEPARTMENT OF THE INTERIOR

Office of Surface Mining Reclamation and Enforcement

[S1D1S SS08011000 SX064A000 178S180110; S2D2S SS08011000 SX064A000 17XS501520]

North Cumberland Wildlife Management Area, Tennessee Lands Unsuitable for Mining Final Petition Evaluation Document and Environmental Impact Statement OSM-EIS-37

AGENCY: Office of Surface Mining Reclamation and Enforcement.

ACTION: Notice of availability; final environmental impact statement.

SUMMARY: The Office of Surface Mining Reclamation and Enforcement (OSMRE) announces that the final Petition Evaluation Document and Environmental Impact Statement (PED/EIS) for the North Cumberland Wildlife Management Area Petition to Find Certain Lands Unsuitable for Surface Coal Mining Operations is available for public review and comment.

DATES: The OSMRE will not issue a final decision of the proposal for a minimum of 30 days after the date that the Environmental Protection Agency publishes the Notice of Availability in the Federal Register.

ADDRESSES: Copies of the Final PED/EIS for the Project may be viewed online at http://www.osmre.gov/programs/rcm/TNLUM.shtm. In addition, a limited number of CD copies of the Final PED/EIS are available upon request. You may obtain a CD by contacting the person identified in FOR FURTHER INFORMATION CONTACT.

FOR FURTHER INFORMATION CONTACT: Earl D. Bandy Jr., Director-Knoxville Field Office, Office of Surface Mining Reclamation and Enforcement, John J. Duncan Federal Building, 710 Locust Street, 2nd Floor, Knoxville, Tennessee 37902. Telephone: 865-545-4103 ext. 186. Email: TNLUM@osmre.gov.

SUPPLEMENTARY INFORMATION:

Background

On September 30, 2010, pursuant to the Surface Mining Control and Reclamation Act, 30 U.S.C. 1272 (c) (SMCRA), the State of Tennessee filed a petition with the Office of Surface Mining and Reclamation and Enforcement (OSMRE) to designate certain lands in the state as unsuitable for surface coal mining operations. These lands include the area within 600 feet of all ridge lines (a 1,200 foot corridor) lying within the North Cumberland Wildlife Management Area (NCWMA)—comprised of the Royal Blue Wildlife Management Area, the Sundquist Wildlife Management Area, and the New River Wildlife Management Area (also known as the Brimstone Tract Conservation Easement)—and the Emory River Tracts Conservation Easement (ERTCE), encompassing approximately 67,326 acres and 505 miles of ridgelines. In Tennessee, OSMRE has operated a Federal regulatory program as the primary regulator under SMCRA since October 1984, when the state repealed its surface mining law; therefore, in accordance with its responsibility in administering the Federal program in Tennessee, the OSMRE must process and make decisions on all petitions submitted to designate areas in the state as unsuitable for surface coal mining operations.

The petition includes two primary allegations with numerous allegations of fact and supporting statements. In primary allegation 1, the petitioner contends that the petition area should be designated unsuitable for surface coal mining operations because mining in the area would be incompatible with existing state or local land use plans or programs. SMCRA 522(a)(3)(A), 30 U.S.C. 1272(a)(3)(A). In primary allegation 2, the petitioner contends that the OSMRE should designate the petition area as unsuitable for surface coal mining operations because such operations would affect fragile or historic lands, resulting in significant damage to important historic, cultural, scientific, and aesthetic values and natural systems. SMCRA 522(a)(3)(B), 30 U.S.C. 1272(a)(3)(B).

The Director, OSMRE, is required to make a decision on the petition. The Final PED/EIS considers in detail the following alternatives for action by the Director:

• Alternative 1—do not designate any of the petition area as unsuitable for surface coal mining operations (no-action). There would be no change in types of permit applications accepted for evaluation.

• Alternative 2—designate the entire petition area (67,326 acres) as unsuitable for all surface coal mining operations (state's proposed action). No types of surface mining permit applications would be accepted for this area.

• Alternative 3—designate the state petition area (67,326 acres) as unsuitable for surface coal mining operations that are not remining. Under this alternative, remining could continue to be permitted on a case-by-case basis. The only acceptable types of permits would be permits for remining.

• Alternative 4—grant an expanded corridor designation of independently identified ridgelines within the petition area (76,133 acres) as unsuitable for surface coal mining operations that are not remining (agency's preferred alternative). Under this alternative, remining could continue to be permitted on a case-by-case basis. The only acceptable types of permits would be permits for remining.

• Alternative 5—designate lands as unsuitable for surface coal mining based on the presence of certain sensitive resources (12,331 acres). No types of surface mining permits would be accepted for this area.

• Alternative 6—designate a reduced corridor of 600 feet (39,106 acres). No types of surface mining permits would be accepted for this area.

In accordance with the applicable regulations under 30 CFR parts 762 and 764 and the requirements of the National Environmental Policy Act of 1969 (NEPA), as amended, OSMRE evaluated the merits of the unsuitability petition and analyzed the impacts of these alternatives. This analysis is reflected in the Final PED/EIS, which notes the potential impacts of the project and alternatives on earth resources (geology, topography and physiography), air quality and greenhouse gases, groundwater, surface water, wetlands, vegetation, fish and wildlife including special status species, land use, aesthetics including visual resources and soundscapes, socioeconomics and environmental justice, cultural resources including archaeological, historic and ethnographic resources, and public health and safety. Mitigation measures to be included as part of project implementation will be noted in the final decision.

In accordance with Department of the Interior regulations (43 CFR 46.425), OSMRE identified Alternative 3 as the preferred alternative in the Draft EIS. However, based on public and agency comments, as well as the state's input, OSMRE has now identified alternative 4 as the preferred alternative because it is the most consistent with the state's request. OSMRE reached that decision based on its analysis and conclusion that the “agency's preferred alternative” is the alternative the agency believes would best accomplish the purpose of and need for action, and fulfill its statutory mission and responsibilities, while still giving consideration to economic, environmental, technical, and other factors. Alternative 4 is also the environmentally preferred alternative because of its long-term environmental benefits.

The OSMRE will prepare a Record of Decision (ROD) for the proposed petition after a 30-day period following publication of the NOA.

Authority: 40 CFR 1506.6, 40 CFR 1506.1.

Dated: October 7, 2016.
Thomas D. Shope,
Regional Director, Appalachian Region.

[FR Doc. 2016-25868 Filed 10-27-16; 8:45 am]

BILLING CODE 4310-05-P